INTERNATIONAL TRADE COMMISSION

Proposed Agency Information Collection; Comment Request

AGENCY: International Trade Commission.

ACTION: Notice of proposed information collection and request for comment.

EFFECTIVE DATE: August 9, 2002.

SUMMARY: Pursuant to the Paperwork Reduction Act of 1995, the U.S. International Trade Commission intends to seek approval from the Office of Management and Budget (OMB) for renewal of a currently approved collection (OMB No.: 3117-0188) for the purpose of obtaining feedback from readers of Commission reports to help meet regular program assessment requirements. Persons are not required to respond to a collection of information unless it displays a currently valid OMB control number (5 CFR 1320.8(b)(3)(vi)). Under Pub. L. 103-62, the Government Performance and Results Act of 1993, the U.S. International Trade Commission is seeking a long-term, continuing means for conducting program evaluations by using the proposed one-page collection, USITC Reader Satisfaction Survey, to help determine the extent to which USITC reports effectively meet the needs of customers. Comments concerning the proposed information collection are requested in accordance with 5 CFR 1320.8(d).

DATES: To be assured of consideration, written comments must be received at the Commission no later than 5:15 p.m. on October 9, 2002.

ADDRESSES: A signed original and eight copies of each set of comments on this proposed information collection, along with a cover letter, should be submitted by mail or by hand delivery to Marilyn R. Abbott, Secretary, U.S. International Trade Commission, 500 E Street SW, Washington, DC 20436.

FOR FURTHER INFORMATION CONTACT: Karl Tsuji, Office of Industries, U.S. International Trade Commission, 500 E Street, SW, Washington, DC 20436 (telephone No. 202-205-3434). The proposed information collection, for which the Commission intends to request approval from OMB for renewal, follows this notice. Copies of the draft Supporting Statement to be submitted to the OMB will be posted on the Commission's World Wide Web site at http://www.usitc.gov or may be obtained from Karl Tsuji, at the above address or telephone number. Hearing impaired individuals are advised that information on this matter can be obtained by contacting our TDD terminal (telephone No. 202-205-1810).

SUPPLEMENTARY INFORMATION:

Request for Comments

Comments are solicited as to: (1) Whether the proposed information collection is necessary for the proper performance of the functions of the agency, including whether the information will have practical utility; (2) the accuracy of the agency's estimate of the burden of the proposed information collection, including the validity of the methodology and assumptions used; (3) the quality, utility, and clarity of the information to be collected; and (4) minimization of the burden of the proposed information collection on those who are to respond, including through the use of appropriate automated, electronic, mechanical, or other forms of information technology, e.g., permitting electronic submission of responses.

Summary of the Proposed Information Collection

Pub. L. 103-62, the Government Performance and Results Act of 1993, enacted on August 3, 1993, sets forth objectives for Federal agencies to, among other things, initiate measures to improve information on program performance and, specifically, to focus on evaluating results, quality, and customer satisfaction. The one-page survey asks for voluntary input from respondents by circling responses that indicate an assessment of reader satisfaction regarding the value and quality of Commission reports. The “tear-out” survey is being placed inside the cover of certain reports (and is included with the PDF format placed on the USITC Internet site) issued by the Commission (excluding Title VII reports for which a separate survey is being designed), including all public studies requested by the Congress and the United States Trade Representative, or reports conducted by the USITC on its own motion, pursuant to section 332 of the Tariff Act of 1930 (19 U.S.C. 1332(g)), and other public reports that meet agency program requirements for a research program set forth in its Strategic Plan (available on the agency's World Wide Web site at http://www.usitc.gov). Following are highlights of the proposed information collection:

(1) Number of forms to be submitted: One single-page form.

(2) Title of form: USITC Reader Satisfaction Survey.

(3) Type of request: Proposed renewal of a currently approved collection.

(4) Frequency of use: Annual or on occasion information gathering.

(5) Description of Respondents: Interested parties receiving most public reports issued by the USITC, with the exception of Title VII reports.

(6) Estimated number of respondents: 600 annually.

(7) Estimated total number of hours to complete the forms: 100 hours annually.

(8) Recordkeeping burden: There is no retention period for recordkeeping required.

(9) Response burden: Less than 10 minutes for each individual respondent.

(10) Summary of the collection of information: Single-page survey requests readers' comments about value and quality of USITC reports.

(11) Information requested on a voluntary basis is not proprietary in nature, but rather for program evaluation purposes and is not intended to be published. Commission treatment of questionnaire responses will be followed; responses will be aggregated and will not be presented in a manner that will reveal the individual parties that supplied the information.

Although the USITC Reader Satisfaction Survey will be made available on the Commission's Web site, comments on the survey must be in paper form.

By order of the Commission.
Issued: August 9, 2002.
Marilyn R. Abbott,
Secretary to the Commission.

USITC Reader Satisfaction Survey

[Title of Report]

The U.S. International Trade Commission (USITC) is interested in your voluntary comments (burden less than 10 minutes) to help assess the value and quality of our reports, and to assist in improving future products. Please return survey by facsimile (202-205-3161) or by mail to the USITC, or visit the USITC Internet home page (www.usitc.gov) to electronically submit a Web version of the survey.

(Please print—responses below not for attribution)
Your name and title: XXXXXXXXXXXXXXXXXXXXXXXXXXXXXX
Organization (if applicable): XXXXXXXXXXXXXXXXXXXXXXXXXXX
Which format is most useful to you? ☐ CD-ROM ☐ Hardcopy ☐ USITC Internet site
Circle your assessment of each factor below: SA = strongly agree, A = agree, N = no opinion, D = disagree, or SD = strongly disagree.
Value of this report:
Statistical data are useful | SA | A | N | D | SD
Other non-numerical facts are useful | SA | A | N | D | SD
Analysis augments statistical data/other facts | SA | A | N | D | SD
Relevant topic(s)/subject matter | SA | A | N | D | SD
Primary or leading source of information on this subject | SA | A | N | D | SD
Quality of this report:
Clearly written | SA | A | N | D | SD
Key issues are addressed | SA | A | N | D | SD
Charts and graphs aid understanding | SA | A | N | D | SD
References cite pertinent sources | SA | A | N | D | SD
Other preferred source of information on this subject: XXXXXXXXXXXXXXXXXXXXXX
Specify chapters, sections, or topics in report that are most useful:
Identify any type of additional information that should have been included in report:
Suggestions for improving report:
Please update your mailing and electronic addresses below (voluntary)_
Mailing address: XXXXXXXXXXXXXXXXXXXXXXXXXXXXXXXXX
City, state, and zip code: XXXXXXXXXXXXXXXXXXXXXXXXXXXXX
E-mail address: XXXXXXXXXXXXXXXXXXXXXXXXXXXXXXXXX

[FR Doc. 02-20670 Filed 8-14-02; 8:45 am]

BILLING CODE 7020-02-P